DEPARTMENT OF TRANSPORTATION

Federal Transit Administration

Public Transportation on Indian Reservations Program; Tribal Transit Program

AGENCY: Federal Transit Administration (FTA), DOT.

ACTION: Notice of award.

SUMMARY: The Federal Transit Administration (FTA) announces the selection of projects to be funded under Fiscal Year (FY) 2008 appropriations for the Public Transportation on Indian Reservations Program; Tribal Transit Program (TTP), a program authorized by the Safe, Accountable, Flexible, and Efficient Transportation Equity Act: A Legacy for Users (SAFETEA-LU).

FOR FURTHER INFORMATION CONTACT: Contact the appropriate FTA regional Tribal Liaison, (Appendix A) for application-specific information and issues. For general program information, contact Lorna R. Wilson, Office of Transit Programs, at (202) 366-2053, e-mail: Lorna.Wilson@dot.gov. A TDD is available at 1-800-877-8339 (TDD/FIRS).

SUPPLEMENTARY INFORMATION: The Tribal Transit Program (TTP) established by Section 3013(c)(1) SAFETEA-LU, Pub. L. 109-59 (August 10, 2005), under 49 U.S.C. 5311(c) makes funds available to federally recognized Indian tribes or Alaska Native villages, groups, or communities as identified by the Bureau of Indian Affairs (BIA) in the U.S. Department of the Interior for public transportation capital projects, operating costs and planning activities that are eligible costs under the Nonurbanized Area Formula Program (Section 5311).

A total of $12 million was made available for the program in FY 2008. In response to the FY 2008 NOFA, 89 applicants requested $24 million for new transit services, enhancement or expansion of existing transit services and planning studies including operational planning. Projects were selected through a competitive process based on each applicant's response to the program evaluation criteria outlined in FTA's May 21, 2008, Federal Register Notice: Notice of Funding Availability and Solicitation for FY 2008 TTP (73 FR 29569). FTA also took into consideration the current status of the FY 2006 and FY 2007 grants for tribes requesting continuation funding.

Because of the high demand, many applicants selected for funding will receive less funding than they requested to enable FTA to support an increased number of meritorious applications. Funds were only awarded to fund one year of the project. Tribes that sought funding for a multi-year project in response to the FY 2008 solicitation must submit a new application in response to the FY 2009 Notice of Funding Availability (NOFA) in order to be considered for FY 2009 funding.

The selected projects provide $620,000 for transit planning studies and/or operational planning; $557,500 for startup projects for new transit service; and, $10,822,500 for enhancements or expansion of existing transit services. Each of the 71 awardees, as well as the applicants not selected for funding, will receive a letter detailing the funding decision. The successful applicants for FY 2008 are listed in Table I.

Following the publication of this notice, FTA's regional tribal liaison will contact each applicant selected for funding to discuss technical assistance needs. In the event the contact information provided in a tribe's FY 2008 application has changed, the tribe should contact the regional transit tribal liaison (listed in Appendix A) with the current information in order to expedite the grant award process.

Issued in Washington, DC, this 8th day of December, 2008.
Sherry Little,
Acting Administrator.

Appendix A—FTA Regional Offices and Tribal Transit Liaisons

Region I—Massachusetts, Rhode Island, Connecticut, New Hampshire, Vermont and Maine—Richard H. Doyle, FTA Regional Administrator, Volpe National Transportation Systems Center, Kendall Square, 55 Broadway, Suite 920, Cambridge, MA 02142-1093, Phone: (617) 494-2055, Fax: (617) 494-2865, Regional Tribal Liaison (s): Laurie Ansaldi and Judi Molloy.

Region II—New York, New Jersey—Brigid Hynes-Cherin, FTA Regional Administrator, One Bowling Green, Room 429, New York, NY 10004-1415, Phone: (212) 668-2170, Fax: (212) 668-2136, Regional Tribal Liaison: Darin Allan.

Region III—Pennsylvania, Maryland, Virginia, West Virginia, Delaware, Washington, DC, Letitia Thompson, FTA Regional Administrator, 1760 Market Street, Suite 500, Philadelphia, PA 19103-4124, Phone: (215) 656-7100, Fax: (215) 656-7260.

Region IV—Georgia, North Carolina, South Carolina, Florida, Mississippi, Tennessee, Kentucky, Alabama, Puerto Rico, Virgin Islands—Yvette G. Taylor, FTA Regional Administrator, 230 Peachtree St., N.W., Suite 800, Atlanta, GA 30303, Tel.: 404-865-5600, Fax: 404-865-5605, Regional Tribal Liaisons: Jamie Pfister and James Garland.

Region V—Illinois, Indiana, Ohio, Wisconsin, Minnesota, Michigan—Marisol R. Simon, FTA Regional Administrator, 200 West Adams Street, Suite 320, Chicago, IL 60606-5232, Phone: (312) 353-2789, Fax: (312) 886-0351, Regional Tribal Liaisons: Joyce Taylor and Angelica Salgado.

Region VI—Texas, New Mexico, Louisiana, Arkansas, Oklahoma—Robert Patrick, FTA Regional Administrator, 819 Taylor Street, Room 8A36, Ft. Worth, TX 76102, Phone: (817) 978-0550, Fax: (817) 978-0575, Regional Tribal Liaison: Lynn Hayes.

Region VII—Iowa, Nebraska, Kansas, Missouri—Mokhtee Ahmad, FTA Regional Administrator, 901 Locust Street, Suite 404, Kansas City, MO 64106, Phone: (816) 329-3920, Fax: (816) 329-3921, Regional Tribal Liaisons: Joni Roeseler and Cathy Monroe.

Region VIII—Colorado, North Dakota, South Dakota, Montana, Wyoming, Utah—Terry Rosapep, FTA Regional Administrator, 12300 West Dakota Avenue, Suite 310, Lakewood, CO 80228-2583, Phone: (720) 963-3300, Fax: (720) 963-3333, Regional Tribal Liaisons: Jennifer Stewart and David Beckhouse.

Region IX—California, Arizona, Nevada, Hawaii, American Samoa, Guam—Leslie Rogers, FTA Regional Administrator, 201 Mission Street, Suite 1650, San Francisco, CA 94105-1926, Phone: (415) 744-3133, Fax: (415) 744-2726, Regional Tribal Liaison: Eric Eidlin.

Region X—Washington, Oregon, Idaho, Alaska—Richard Krochalis, FTA Regional Administrator, Jackson Federal Building, 915 Second Avenue, Suite 3142, Seattle, WA 98174-1002, Phone: (206) 220-7954, Fax: (206) 220-7959, Regional Tribal Liaison: Bill Ramos.

Table 1—FTA FY 2008 Allocation of Tribal Transit Program
Tribe | State | Award | ID Number
Alabama-Quassarte Tribal Town | WI | 25,000 | D2008-TRTR-9001
Blue Lake Rancheria | CA | 120,000 | D2008-TRTR-9002
Bois Forte Band of Minnesota Chippewa | MN | 20,000 | D2008-TRTR-9003
Central Council Tlingit and Haida Tribes of Alaska | AK | 250,000 | D2008-TRTR-9004
Cher-Ae heights Indian Community of the Trinidad Rancheria | CA | 25,000 | D2008-TRTR-9005
Cherokee Nation | OK | 250,000 | D2008-TRTR-9006
Cheyenne and Arapaho Tribes | OK | 25,000 | D2008-TRTR-9007
Cheyenne River Sioux Tribe | SD | 157,500 | D2008-TRTR-9008
Chippewa Cree Tribe of the Rocky Boy's Reservation | MT | 200,000 | D2008-TRTR-9009
Choctaw Nation of Oklahoma | OK | 158,000 | D2008-TRTR-9010
Coeur D' Alene Tribe | ID | 225,000 | D2008-TRTR-9011
Comanche Nation | OK | 160,000 | D2008-TRTR-9012
Confederated Salish and Kootenai Tribes | MT | 250,000 | D2008-TRTR-9013
Confederated Tribes and Bands of the Yakama Nation | WA | 442,373 | D2008-TRTR-9014
Confederated Tribes of the Colville Indian Reservation | WA | 155,000 | D2008-TRTR-9015
Confederated Tribes of the Grand Ronde | OR | 198,110 | D2008-TRTR-9016
Confederated Tribes of the Umatilla Indian Reservation | OR | 200,000 | D2008-TRTR-9017
Cowlitz Indian Tribal Housing | WA | 200,000 | D2008-TRTR-9018
Eastern Band of Cherokee Nation | NC | 172,900 | D2008-TRTR-9019
Eastern Shawnee Tribe of Oklahoma | MO | 25,000 | D2008-TRTR-9020
Fond du Lac Bank of Lake Superior Chippewa | MN | 225,000 | D2008-TRTR-9021
Fort Belknap Indian Community | MT | 218,000 | D2008-TRTR-9022
Georgetown Tribal Council | AK | 25,000 | D2008-TRTR-9023
Gulkana Village Council | AK | 200,000 | D2008-TRTR-9024
Kalispell Tribe of Indians | WA | 208,296 | D2008-TRTR-9025
Keweena Bay Indian Community | MI | 25,000 | D2008-TRTR-9026
Kiowa Tribe | OK | 262,000 | D2008-TRTR-9027
Klamath Tribe | OR | 150,000 | D2008-TRTR-9028
Lac Courte Oreilles (LCO) | WI | 109,068 | D2008-TRTR-9029
Lower Brule Sioux Tribe | SD | 150,000 | D2008-TRTR-9030
Lower Elwha Klallam Tribe | WA | 25,000 | D2008-TRTR-9031
Lower Sioux Indian Community | MN | 25,000 | D2008-TRTR-9032
Lummi Nation | WA | 200,000 | D2008-TRTR-9033
Menominee Indian Tribe of Wisconsin | WI | 25,000 | D2008-TRTR-9034
Mississippi Band of Choctaw Indians | MS | 192,000 | D2008-TRTR-9035
Muscogee (Creek) Nation | OK | 225,000 | D2008-TRTR-9036
Nez Perce Tribe | ID | 250,000 | D2008-TRTR-9037
Northern Cheyenne Reservation | MT | 157,500 | D2008-TRTR-9038
Oglala Sioux Tribe | SD | 300,000 | D2008-TRTR-9039
Ohkay Owingeh | NM | 155,000 | D2008-TRTR-9040
Orutsararmiut Native Council | AK | 175,000 | D2008-TRTR-9041
Ponca Tribe of Nebraska | NE | 216,500 | D2008-TRTR-9042
Ponca Tribe of Oklahoma | OK | 208,000 | D2008-TRTR-9043
Prairie Band Potawatomi Nation | KS | 225,000 | D2008-TRTR-9044
Pueblo of San Idefonso | NM | 25,000 | D2008-TRTR-9045
Pueblo of Santa Ana | NM | 150,000 | D2008-TRTR-9046
Pueblos of Tesuque-North Central Regional Transit District | NM | 250,000 | D2008-TRTR-9047
Quechan Indian Tribe | AZ | 25,000 | D2008-TRTR-9048
Quinalut Indian Nation | WA | 200,000 | D2008-TRTR-9049
Reservation Transportation Authority | CA | 400,000 | D2008-TRTR-9050
Rosebud Sioux Tribe | SD | 100,000 | D2008-TRTR-9051
Santa Clara pueblo | NM | 125,000 | D2008-TRTR-9052
Santee Sioux Nation | NE | 195,800 | D2008-TRTR-9053
Sault St. Marie Tribe of Chippewa Indians | MI | 25,000 | D2008-TRTR-9054
Seminole Nation | OK | 220,000 | D2008-TRTR-9055
Sitka Tribe of Alaska | AK | 172,900 | D2008-TRTR-9056
Southern Ute Indian Tribe | CO | 157,000 | D2008-TRTR-9057
Spirit Lake Tribe | ND | 250,000 | D2008-TRTR-9058
Spokane Tribe of Indians | WA | 25,000 | D2008-TRTR-9059
Squaxin Island Tribe | WA | 146,564 | D2008-TRTR-9060
Standing Rock Sioux Tribe | ND | 225,000 | D2008-TRTR-9061
Stillaguamish Tribe of Indians | WA | 150,000 | D2008-TRTR-9062
Swinomish Indian Tribal Community | WA | 225,000 | D2008-TRTR-9063
Tetlin Village Council | AK | 225,000 | D2008-TRTR-9064
The Chickasaw Nation | OK | 300,000 | D2008-TRTR-9065
The Citizen Potawatomi Nation | OK | 276,000 | D2008-TRTR-9066
The Kickapoo Tribe in Kansas | KS | 25,000 | D2008-TRTR-9067
Turtle Mountain Band of Chippewa | ND | 225,000 | D2008-TRTR-9068
United Keetoowah Band of Cherokee Indians | OK | 216,000 | D2008-TRTR-9069
Winnebago Tribe of Nebraska | NE | 200,000 | D2008-TRTR-9070
Yurok Tribe | CA | 255,489 | D2008-TRTR-9071
Total Awarded |  | $12,000,000 | $12,000,000

I01

[FR Doc. E8-30163 Filed 12-18-08; 8:45 am]

BILLING CODE 4910-57-P